DEPARTMENT OF DEFENSE

Department of the Army; Corps of Engineers

Intent To Prepare a Draft Environmental Impact Statement for the “Flood Control, Mississippi River & Tributaries, St. Johns Bayou and New Madrid Floodway, Missouri, First Phase” (SJNM) Project

AGENCY: Department of the Army, U.S. Army Corps of Engineers, DoD.

ACTION: Notice of intent to prepare a DEIS.

SUMMARY: The U.S. Army Corps of Engineers is announcing its intent to prepare a Draft Environmental Impact Statement (DEIS) for the Mississippi River and Tributaries, St. Johns Bayou and New Madrid Floodway, MO Project. The DEIS is being prepared to address and evaluate the environmental, economic and social impacts of alternative plans to provide flood control and develop and discuss locations and methodologies of potential compensatory mitigation. This DEIS will address previous project history, independent external peer reviews, State/Federal agency concerns and will formulate alternatives that manage flood risks in the project area.

FOR FURTHER INFORMATION CONTACT: Mr. Gregg Williams, telephone (901) 544-3852, CEMVM-PB-E, 167 North Main Street B-202, Memphis, TN 38103-1894, e-mail—Gregg.W.Williams@usace.army.mil.

SUPPLEMENTARY INFORMATION: The St. Johns Bayou Basin and New Madrid Floodway are located in the Bootheel region of southeast Missouri and include all or portions of the New Madrid, Scott and Mississippi Counties. The basin and floodway are adjacent to the Mississippi River, extending from the vicinity of Commerce, Missouri to New Madrid, Missouri. The basin and floodway are subject to both backwater and interior headwater flooding. Congress authorized the Mississippi River and Tributaries (MR&T) Project to construct the mainline Mississippi River levees. The Birds Point-New Madrid Floodway was part of the 1928 Flood Control Act. A levee closure and outlet structure at New Madrid, Missouri were authorized in the Flood Control Act of 1954 (Pub. L. 780-83) but not constructed. The St. Johns Bayou Basin levee closure, with drainage structure, was authorized in the Flood Control Act of 1946, and subsequently constructed. An EIS for the MR&T and Channel Improvement was filed with the Council on Environmental Quality in July 1976, which addressed the New Madrid Floodway levee closure. The St. Johns Bayou/New Madrid Floodway Project Final Supplemental Environmental Impact Statement (SEIS) was filed with the EPA in July 1982. The current project was authorized for construction by the Water Resources Development Act of 1986 (Pub. L. 99-662), section 401(a). The authorized project is based on the Report of the Chief of Engineers, dated January 4, 1983, which is part of the Phase I General Design Memorandum (GDM) documents prepared in response to section 101(a) of the Water Resources Development Act of 1976 (Pub. L. 94-587). A Revised Supplemental Environmental Impact Statement (RSEIS) was filed in June 2002. The Revised Supplemental Environmental Impact Statement 2 (RSEIS2) was prepared to clarify the record and address concerns related to the calculation of compensatory mitigation for mid-season fishery impacts, hypoxia, cost-benefit analysis, Swampbuster and the applicable discount rate in the economics analysis. The RSEIS2 was filed in March 2006.

The Corps has determined that a new EIS is required to incorporate additional scientific and engineering data; include the results of intensive independent external peer review of the previous project document, plans and studies; clarify project objectives and plans; and address points raised in the course of legal action.

1. Proposed Action: The authorized project for the St. Johns Bayou and New Madrid Floodway Project consists of channel enlargement and improvement in the St. Johns Bayou Basin along the lower 4.5 miles of the St. Johns Bayou, beginning at New Madrid, Missouri, then continuing 8.1 miles along the Birds Point-New Madrid Setback Levee Ditch and ending with 10.8 miles along the St. James Ditch. The first item of work, consisting of selective clearing and snagging, has already been completed along a 4.3-mile reach of the Setback Levee Ditch beginning at the confluence with the St. James Ditch.

The authorized project also includes a 1,000-cubic-foot-per-second (CFS) pumping station for the St. Johns Bayou Basin area, a 1,500-CFS pumping station for the New Madrid Floodway area and a 1,500-foot-closure levee at the southern end of the New Madrid Floodway. The channel enlargement work and both pumping stations are features of the St. Johns Bayou and New Madrid Floodway Project and the levee closure is a feature of the Mississippi River Levee Project.

2. Alternatives: Alternatives to manage flood risks in the project area will be considered. Comparisons will be made among the alternative plans, including the “no action” alternative.

3. Scoping Process: An intensive public involvement program has been set up to (1) solicit input from individuals and interested parties so that problems, needs and opportunities within the project area can be properly identified and addressed and (2) provide status updates to concerned organizations and the public. Significant issues being analyzed include potential project impacts (negative and positive) to fisheries, water quality, wetlands, waterfowl, shorebirds, endangered species and cultural resources.

Meetings with the local sponsor, public coordination meetings, interagency environmental meetings and public project briefings/presentations will be conducted throughout this process. This notice is being circulated to Federal, State and local environmental resource and regulatory agencies; Indian Tribes; non-governmental organizations; and the general public. This notice of intent (NOI) will serve as a request for scoping input. All interested parties are encouraged to participate in the scoping process. A public scoping meeting will be held on May 11, 2010, at 7 p.m. in the East Prairie Church of God, 322 N. Washington St., East Prairie, MO 63845. It is anticipated that the DEIS will be available for public review during spring 2012. A public meeting will be held during the review period to receive comments and address questions concerning the draft report.

Thomas P. Smith,
Colonel, Corps of Engineers, District Commander.

[FR Doc. 2010-7720 Filed 4-5-10; 8:45 am]

BILLING CODE 3720-58-P